FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 14, 2009.

A. Federal Reserve Bank of Minneapolis (Jacqueline G. King, Community Affairs Officer) 90 Hennepin Avenue, Minneapolis, Minnesota 55480-0291:

1. Melissa I. Brooks and Erik K. Brooks, both of Eden Prairie, Minnesota, to join a group acting in concert with Kenneth Brooks, Eden Prairie, Minnesota (individually and as trustee of the Signature Bancshares, Inc. Employee Stock Ownership Plan and Trust, Minnetonka, Minnesota) and Roger Brooks, Boulder, Colorado; to retain control of Signature Bancshares, Inc., Minnetonka, Minnesota, and thereby indirectly retain control of Signature Bank, Minnetonka, Minnesota.

Board of Governors of the Federal Reserve System, August 24, 2009.
Robert deV. Frierson,
Deputy Secretary of the Board.

[FR Doc. E9-20680 Filed 8-26-09; 8:45 am]

BILLING CODE 6210-01-S